DEPARTMENT OF COMMERCE

National Oceanic and Atmospheric Administration

[I.D. 111401A]

Proposed Information Collection; Comment Request; Economic Data Collection for the Trap Fishery in the U.S. Caribbean

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before January 22, 2002.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Jim Waters, Department of Commerce, NOAA, National Marine Fisheries Service, 101 Pivers Island Road, Beaufort, NC 28516-9722, (252-728-8710).

SUPPLEMENTARY INFORMATION:

I. Abstract

The National Marine Fisheries Service (NMFS) proposes to conduct a survey to collect socio-economic data from the Caribbean (Puerto Rico and the United States Virgin Islands) trap fishery. The survey intends to collect revenue, cost and other auxiliary economic information, e.g., vessel characteristics and capital investment, as well as socio-demographic information. The information collected is necessary to evaluate the economic impacts of potential gear regulations that are likely to be considered by the Caribbean Fishery Management Council. In addition, the information will be used to strengthen and improve fishery management decision-making, satisfy legal mandates under Executive Order 12866, the Magnuson-Stevens Fishery Conservation and Management Act (U.S.C. 1801 et. seq.), the Regulatory Flexibility Act, the Endangered Species Act, and the National Environmental Policy Act, and quantify achievement of performance measures in the NMFS Strategic Operating Plans.

II. Method of Collection

The socio-economic information will be collected via personal interview with a stratified random sample of commercial trap fishermen, with strata defined as three distinct fishing areas within the U.S. Caribbean: Puerto Rico; St. Croix, U.S. Virgin Islands (USVI); and St. Thomas/St. John, USVI. One hundred interviews will be completed in total: sixty (60) interviews in Puerto Rico; twenty (20) interviews in St. Croix; and twenty (20) interviews in St. Thomas/St. John.

III. Data

OMB Number: None.

Form Number: None.

Type of Review: Regular submission.

Affected Public: Business or other for-profit organizations.

Estimated Number of Respondents: 100.

Estimated Time Per Response: 2 hours.

Estimated Total Annual Burden Hours: 200.

Estimated Total Annual Cost to Public: $0.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 9, 2001.
Gwellnar Banks,
Management Analyst, Office of the Chief Information Officer.

[FR Doc. 01-28925 Filed 11-19-01; 8:45 am]

BILLING CODE 3510-22-S